DEPARTMENT OF VETERANS AFFAIRS

[OMB Control No. 2900-0005]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before January 2, 2003.

FOR FURTHER INFORMATION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0005.”

Send comments and recommendations concerning any aspect of the information collection to VA's OMB Desk Officer, OMB Human Resources and Housing Branch, New Executive Office Building, Room 10235, Washington, DC 20503 (202) 395-7316. Please refer to “OMB Control No. 2900-0005” in any correspondence.

SUPPLEMENTARY INFORMATION: Title: Application for Dependency and Indemnity Compensation by Parent(s), (Including Accrued Benefits and Death Compensation, When Applicable), VA Form 21-535.

OMB Control Number: 2900-0005.

Type of Review: Extension of a currently approved collection.

Abstract: VA Form 21-535 is used by surviving parent or parents of a deceased veteran to apply for benefits. Dependency and Indemnity Compensation may be payable when the veteran dies (a) From disease or injury incurred or aggravated in line of duty while on active duty or active duty for training, (b) from injury incurred or aggravated in line of duty while on inactive duty training, or (c) from disability compensable under laws administered by VA. VA uses the information to determine a parent's eligibility, dependency and income, as applicable, for the death benefits.

An agency may not conduct or sponsor, and a person is not required to respond to a collection of information unless it displays a currently valid OMB control number. The Federal Register notice with a 60-day comment period soliciting comments on this collection of information was published on August 14, 2002, at page 53045.

Affected Public: Individuals or households.

Estimated Annual Burden: 25,056.

Estimated Average Burden Per Respondent: 1 hour 12 minutes.

Frequency of Response: On occasion.

Estimated Number of Respondents: 20,880.

Dated: November 22, 2002.
By direction of the Secretary.
Ernesto Castro,
Director, Records Management Service.

[FR Doc. 02-30589 Filed 12-2-02; 8:45 am]

BILLING CODE 8320-01-P